DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | *Elevation in feet (NGVD) | Communities affected
NORTH DAKOTA
Morton County (FEMA Docket No. B-7439)
Missouri River: |  | City of Mandan.
Approximately 1.1 miles downstream of Bismarck Expressway bridge | *1,635 |
Approximately 2.8 miles upstream of Interstate Highway 94 | *1,639 |
At confluence of Apple Creek | *1,628 | Morton County (Uninc. Areas).
Approximately 5.7 miles upstream of confluence of Square Butte Creek | *1,644
ADDRESSES:
Unincorporated Areas Morton County
Maps are available for inspection at the County Courthouse, 210 Second Avenue, Northwest, Mandan, North Dakota.
City of Mandan
Maps are available for inspection at City Hall, 205 Second Avenue, Northwest, Mandan, North Dakota.
WASHINGTON
King County (FEMA Docket No. B-7435)
Issaquah Creek: |  | King County (Uninc. Areas) and City of Issaquah.
Approximately 1,700 feet downstream of Southeast 56th Street | *45 |
Approximately 3,200 feet upstream of Sycamore Drive | *140 |
East Fork Issaquah Creek: |  | City of Issaquah.
At confluence with Issaquah Creek | *75 |
Just downstream of Interstate Highway 90 | *153 |
Gilman Boulevard Overflow Issaquah Creek: |  | City of Issaquah.
Approximately 640 feet downstream of 10th Avenue Northwest | *56 |
Approximately 1,000 feet upstream of 7th Avenue Northwest | *64
ADDRESSES:
Unincorporated Areas King County
Maps are available for inspection at the Water and Land Department Flood Hazard Division, 201 South Jackson Street, Suite 600, Seattle, Washington.
City of Issaquah
Maps are available for inspection at the City Hall Department of Public Works, 1775 12th Avenue NW., Issaquah, Washington.
King County (FEMA Docket No. B-7439)
Snoqualmie River: |  | King County (Uninc. Areas) and City of Snoqualmie.
Approximately 2,000 feet downstream of confluence of Middle Fork and South Fork Snoqualmie River | *424 |
South Fork Snoqualmie River: |  | King County (Uninc. Areas) City of Snoqualmie, and City of North Bend.
At confluence with Middle Fork Snoqualmie River | *425 |
Approximately 700 feet upstream of Eastbound I-90 bridge | *475 |
Middle Fork Snoqualmie River: |  | King County (Uninc. Areas) and City of Snoqualmie.
At confluence of North Fork Snoqualmie River | *426 |
Approximately 260 feet downstream of Southeast Mount SI Road | *478 |
Lower Overflow: |  | King County (Uninc. Areas) and City of North Bend.
At Southeast 100th Street | *428 |
Approximately 1,400 feet upstream of North Pickett Avenue | *449 |
Middle Overflow: |  | King County (Uninc. Areas) and City of North Bend.
Just upstream of Northeast 420th Avenue | *432 |
At Borst Avenue Northeast | *441 |
Upper South Overflow: |  | King County (Uninc. Areas) and City of North Bend.
Approximately 400 feet downstream of Ballarat Avenue North | *437 |
At divergence from Middle Fork Snoqualmie River | *467 |
Upper North Overflow: |  | King County (Uninc. Areas) and City of North Bend.
Approximately 150 feet downstream of Ogle Avenue Northeast | *441 |
Approximately 400 feet downstream of 120th Street | *457 |
Gardiner Creek: |  | King County (Uninc. Areas) and City of North Bend.
At Bolch Avenue Northwest | *429 |
Upstream of Northwest Eighth Street | *435
ADDRESSES
Unincorporated Areas King County
Maps are available for inspection at the King DDES, Black River Corp. Park, 900 Oaksdale Avenue Southwest, Suite 100, Renton, Washington.
City of North Bend
Maps are available for inspection at 1155 East North Bend Way, North Bend, Washington.
City of Snoqualmie
Maps are available for inspection at the Planning Directors Office, 8020 Railroad Avenue Southeast, Snoqualmie, Washington.

(Catalog of Federal Domestic Assistance No. 83.100, “Flood Insurance”)
Dated: December 1, 2004.
David I. Maurstad,
Acting Director, Mitigation Division, Emergency Preparedness and Response Directorate.

[FR Doc. 04-27133 Filed 12-9-04; 8:45 am]

BILLING CODE 9110-12-P